DEPARTMENT OF DEFENSE

Department of the Air Force

[Docket ID USAF-2013-0017]

Privacy Act of 1974; System of Records

AGENCY: Department of the Air Force, DoD.

ACTION: Notice to alter a System of Records.

SUMMARY: The Department of the Air Force proposes to alter a system of records notice in its existing inventory of records systems subject to the Privacy Act of 1974 (5 U.S.C. 552a), as amended.

DATES: This proposed action will be effective on April 22, 2013 unless comments are received which result in a contrary determination. Comments will be accepted on or before April 22, 2013.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (571) 256-2515.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, as amended, were submitted on March 5, 2013, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: March 18, 2013.
Aaron Siegel,
Alternate OSD Federal Register Liaison Officer, Department of Defense.

F036 AFPC K

System name:

Historical Airman Promotion Master Test File (MTF) (June 11, 1997, 62 FR 31793).

Changes:

* * * * *

System name:

Delete entry and replace with “Enlisted Promotion Testing Record.”

System location:

Delete entry and replace with “Headquarters Air Force Personnel Center, Enlisted Promotion and Military Testing Branch (HQ AFPC/DPSOE), 550 C Street West, Randolph Air Force Base, TX 78150-4711.”

Categories of individuals covered by the system:

Delete entry and replace with “Active duty enlisted personnel in the ranks of Senior Airman (E-4) to Senior Master Sergeant (E-8).”

Categories of records in the system:

Delete entry and replace with “Name; rank; Social Security Number (SSN); Department of Defense Identification Number (DoD ID Number); Promotion Test Answer Sheets for Specialty Knowledge Test (SKT), Promotion Fitness Examination (PFE) and United States Air Force Supervisory Examination (USAFSE); date tested; score; item responses; correspondence to and from Air Force Board for Correction of Military Records.”

Authority for maintenance of the system:

Delete entry and replace with “10 U.S.C. 8013, Secretary of the Air Force; DoDD 1304.20, Enlisted Personnel Management System; DoDI 1304.30, Enlisted Personnel Management Plan Procedures; Air Force Policy Directive (AFPD) 36-25, Military Promotion and Demotion; Air Force Instruction (AFI) 36-2502, Air Force Enlisted Promotions; AFI 36-2605, Air Force Military Personnel Testing System; and E.O. 9397 (SSN), as amended.”

Purpose(s):

Delete entry and replace with “Used by Air Force Personnel Center/Enlisted Promotion Branch (AFPC/DPSOE) to research and/or correct promotion status for previous cycles and to score Air Force Specialty Knowledge, Promotion Fitness Examination, and Supervisory Examination tests. Data is used to resolve inquiries, provide supplemental consideration, prepare Air Staff advisories to the Air Force Board for Correction of Military Records, and manage the Airman Promotion Program.”

* * * * *

Storage:

Delete entry and replace with “Paper records and electronic storage media.”

Retrievability:

Delete entry and replace with “Name, SSN, and/or DoD ID number.”

Safeguards:

Delete entry and replace with “Records are accessed by the program manager and by person(s) responsible for servicing the record system in the performance of their official duties that are properly screened and cleared for need-to-know. Paper records are stored in secured file cabinets in a locked building with controlled access entry requirements. System software uses Primary Key Infrastructure (PKI)/Common Access Card (CAC) authentication to lock out unauthorized access. Access to the building is controlled by Security Access Card.”

Retention and disposal:

Delete entry and replace with “Answer sheets are maintained for 6 months following the completion of promotion cycle for which member was tested, then destroyed by burning or shredding. Electronic systems supplement temporary hard copy records where the hard copy records are retained to meet recordkeeping requirements and destroyed when agency determines the electronic records are superseded, obsolete, or no longer needed for administrative legal, audit, or other operational purposes. Historical Airman Promotion Master Test File (MTF) are maintained for 10 years computed from the date of the original selection process.”

System manager(s) and address:

Delete entry and replace with “Chief, Air Force Personnel Center, Enlisted Promotion and Military Testing Branch (HQ AFPC/DPSOE), 550 C Street West, Randolph Air Force Base, TX 78150-4711.”

Notification procedure:

Delete entry and replace with “Individuals seeking to determine whether this system of records contains information about themselves should address written inquiries to Chief, Air Force Personnel Center, Enlisted Promotion and Military Testing Branch (HQ AFPC/DPSOE), 550 C Street West, Randolph Air Force Base, TX 78150-4711.

For verification purposes, individual should provide their full name, SSN and/or DoD ID number, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.”

Record access procedures:

Delete entry and replace with “Individuals seeking access to information about themselves contained in this system should address written inquiries to their servicing Military Personnel Section (MPS) Enlisted Promotions Office, Headquarters of Major Commands or separate operating agencies, or the Assistant Deputy Chief of Staff, Air Force Personnel Center, Randolph Air Force Base, TX 78150.

For verification purposes, individual should provide their full name, SSN and/or DoD ID number, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ’I declare (or certify, verify, or state) under penalty of perjury that the foregoing is true and correct. Executed on (date). (Signature)’.”

Contesting record procedures:

Delete entry and replace with “The Air Force rules for accessing records, contesting contents, and appealing initial agency determinations are published in Air Force Instruction 33-332, Air Force Privacy Program; 32 CFR part 806b; or may be obtained from the system manager.”

Record source categories:

Delete entry and replace with “Member, promotion testing personnel, Military Personnel Data System (MilPDS), Automated Records Management System (ARMS), and Air Force Promotion System (AFPROMS).”

* * * * *

[FR Doc. 2013-06489 Filed 3-20-13; 8:45 am]

BILLING CODE 5001-06-P